DEPARTMENT OF ENERGY

Federal Energy Regulatory Commission

Combined Notice of Filings #1

Take notice that the Commission received the following electric corporate filings:

Docket Numbers: EC12-19-000.

Applicants: LSP Energy Limited Partnership, TPF II Southeast Holdings, LLC.

Description: LSP Energy Limited Partnership and TPF II Southeast Holdings, LLC, Joint Application For Approval Under Section 203 of the Federal Power Act, And Request for Expedited.

Filed Date: 11/01/2011.

Accession Number: 20111101-5232.

Comment Date: 5 p.m. Eastern Time on Tuesday, November 22, 2011.

Take notice that the Commission received the following electric rate filings:

Docket Numbers: ER10-2912-002.

Applicants: Alliance for Cooperative Energy Services.

Description: Notice of Non-Material Change in Status of Alliance for Cooperative Energy Services Power Marketing LLC.

Filed Date: 11/01/2011.

Accession Number: 20111101-5164.

Comment Date: 5 p.m. Eastern Time on Tuesday, November 22, 2011.

Docket Numbers: ER10-3058-001; ER10-3059-001; ER10-3065-001; ER10-3066-001.

Applicants: Pinelawn Power, LLC.

Description: J-POWER North America Holdings Co., Ltd.'s Supplemental Filing of Triennial Market Power Update for the Northeast Region.

Filed Date: 10/20/2011.

Accession Number: 20111020-5152.

Comment Date: 5 p.m. Eastern Time on Thursday, November 10, 2011.

Docket Numbers: ER12-305-000.

Applicants: Orange Grove Energy, L.P.

Description: Orange Grove Energy, L.P. submits tariff filing per 35.13(a)(2)(iii: Orange Grove Black Start Agreement to be effective 1/1/2012.

Filed Date: 11/01/2011.

Accession Number: 20111101-5108.

Comment Date: 5 p.m. Eastern Time on Tuesday, November 22, 2011.

Docket Numbers: ER12-306-000.

Applicants: Baltimore Gas and Electric Company, PJM Interconnection, L.L.C.

Description: Baltimore Gas and Electric Company submits tariff filing per 35.13(a)(2)(iii: BGE submits revisions to PJM's Tariff Attach H-2A-BGE's Trans. Formula Rate to be effective 6/1/2012.

Filed Date: 11/01/2011.

Accession Number: 20111101-5125.

Comment Date: 5 p.m. Eastern Time on Tuesday, November 22, 2011.

Docket Numbers: ER12-307-000.

Applicants: Green Mountain Energy Company.

Description: Request for Limited One-Time Waiver of Tariff Provision and Expedited Treatment of Green Mountain Energy Company.

Filed Date: 11/01/2011.

Accession Number: 20111101-5141.

Comment Date: 5 p.m. Eastern Time on Tuesday, November 22, 2011.

Docket Numbers: ER12-308-000.

Applicants: Manzana Wind LLC.

Description: Manzana Wind LLC submits tariff filing per 35.12: Market-Based Rate Application to be effective 12/31/2011.

Filed Date: 11/01/2011.

Accession Number: 20111101-5166.

Comment Date: 5 p.m. Eastern Time on Tuesday, November 22, 2011.

Docket Numbers: ER12-309-000.

Applicants: Midwest Independent Transmission System Operator, Inc.

Description: Midwest Independent Transmission System Operator, Inc. submits tariff filing per 35.13(a)(2)(iii: 11-1-11 Attachment X_Queue Reform to be effective 1/1/2012.

Filed Date: 11/01/2011.

Accession Number: 20111101-5174.

Comment Date: 5 p.m. Eastern Time on Tuesday, November 22, 2011.

Docket Numbers: ER12-310-000.

Applicants: Ameren Illinois Company, Midwest Independent Transmission System Operator, Inc.

Description: Ameren Illinois Company submits tariff filing per 35.13(a)(2)(iii: 11-01-11 AIC Attachment O to be effective 1/1/2012.

Filed Date: 11/01/2011.

Accession Number: 20111101-5175.

Comment Date: 5 p.m. Eastern Time on Tuesday, November 22, 2011.

Docket Numbers: ER12-311-000.

Applicants: Southern California Edison Company.

Description: Southern California Edison Company submits tariff filing per 35.13(a)(2)(iii: Rate Schedule Amendments for ITCC Language to be effective 1/1/2012.

Filed Date: 11/01/2011.

Accession Number: 20111101-5180.

Comment Date: 5 p.m. Eastern Time on Tuesday, November 22, 2011.

Docket Numbers: ER12-312-000.

Applicants: Midwest Independent Transmission System Operator, Inc.

Description: Midwest Independent Transmission System Operator, Inc. submits tariff filing per 35.13(a)(2)(iii: 11-01-11 Attachment MM and MM-GRE to be effective 1/1/2012.

Filed Date: 11/01/2011.

Accession Number: 20111101-5181.

Comment Date: 5 p.m. Eastern Time on Tuesday, November 22, 2011.

Docket Numbers: ER12-313-000.

Applicants: Pacific Gas and Electric Company.

Description: Pacific Gas and Electric Company submits tariff filing per 35.13(a)(2)(i): Hercules Municipal Utility IA and WDT Service Agreements to be effective 1/1/2012.

Filed Date: 11/01/2011.

Accession Number: 20111101-5187.

Comment Date: 5 p.m. Eastern Time on Tuesday, November 22, 2011.

Docket Numbers: ER12-314-000.

Applicants: Southern California Edison Company.

Description: Southern California Edison Company submits tariff filing per 35.13(a)(2)(iii: TO Amendments for ITCC Language to be effective 1/1/2012.

Filed Date: 11/01/2011.

Accession Number: 20111101-5188.

Comment Date: 5 p.m. Eastern Time on Tuesday, November 22, 2011.

Docket Numbers: ER12-315-000.

Applicants: NorthWestern Corporation.

Description: NorthWestern Corporation submits tariff filing per 35: Compliance Filing to Bring Accepted Provision into eTariff to be effective 1/1/2011.

Filed Date: 11/01/2011.

Accession Number: 20111101-5189.

Comment Date: 5 p.m. Eastern Time on Tuesday, November 22, 2011.

Docket Numbers: ER12-316-000.

Applicants: NorthWestern Corporation.

Description: NorthWestern Corporation submits tariff filing per 35.13(a)(2)(iii: Revision to MT OATT Schedule 3 Regarding Self-Supply to be effective 12/31/2011.

Filed Date: 11/01/2011.

Accession Number: 20111101-5191.

Comment Date: 5 p.m. Eastern Time on Tuesday, November 22, 2011.

Docket Numbers: ER12-317-000.

Applicants: Southern California Edison Company.

Description: Southern California Edison Company submits tariff filing per 35.13(a)(2)(iii: WDAT Amendments for ITCC Language to be effective 1/1/2012.

Filed Date: 11/01/2011.

Accession Number: 20111101-5202.

Comment Date: 5 p.m. Eastern Time on Tuesday, November 22, 2011.

Docket Numbers: ER12-318-000.

Applicants: Pacific Gas and Electric Company.

Description: Pacific Gas and Electric Company submits tariff filing per 35.13(a)(2)(iii: E&P Agreement for Westlands Solar Farms to be effective 11/3/2011.

Filed Date: 11/02/2011.

Accession Number: 20111102-5012.

Comment Date: 5 p.m. Eastern Time on Wednesday, November 23, 2011.

Docket Numbers: ER12-319-000.

Applicants: Duke Energy Ohio, Inc.

Description: Duke Energy Ohio, Inc. submits notice of cancellation.

Filed Date: 11/01/2011.

Accession Number: 20111101-5231

Comment Date: 5 p.m. Eastern Time on Tuesday, November 22, 2011.

Docket Numbers: ER12-320-000.

Applicants: PacifiCorp.

Description: Notice of Termination of Pacificorp.

Filed Date: 11/01/2011.

Accession Number: 20111101-5234.

Comment Date: 5 p.m. Eastern Time on Tuesday, November 22, 2011.

Docket Numbers: ER12-321-000.

Applicants: PacifiCorp.

Description: Notice of Termination of Pacificorp.

Filed Date: 11/01/2011.

Accession Number: 20111101-5235.

Comment Date: 5 p.m. Eastern Time on Tuesday, November 22, 2011.

Docket Numbers: ER12-322-000.

Applicants: Pacific Gas and Electric Company.

Description: Notices of Termination of Hercules WDT Service Agreement Nos. 9 and 13 of Pacific Gas and Electric Company.

Filed Date: 11/01/2011.

Accession Number: 20111101-5236.

Comment Date: 5 p.m. Eastern Time on Tuesday, November 22, 2011.

Take notice that the Commission received the following electric securities filings:

Docket Numbers: ES11-51-000.

Applicants: PacifiCorp.

Description: Amendment to Application for Authorization to Issue and Sell up to $1.5 Billion for Unsecured Short-Term Indebtedness of Pacificorp.

Filed Date: 10/28/2011.

Accession Number: 20111028-5212.

Comment Date: 5 p.m. Eastern Time on Monday, November 14, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2011.
Nathaniel J. Davis, Sr.,
Deputy Secretary.

[FR Doc. 2011-29003 Filed 11-8-11; 8:45 am]

BILLING CODE 6717-01-P